DEPARTMENT OF ENERGY

Federal Energy Regulatory Commission

[Docket No. AD05-13-000]

Joint Boards on Security Constrained Economic Dispatch; Supplemental Notice of Second South Joint Board Meeting

February 10, 2006.

On January 6, 2006, the Commission announced that it planned to hold further joint board meetings and that these meetings would take place at the Hyatt Regency on Capitol Hill, 400 New Jersey Avenue, NW., in Washington DC. Take notice that the joint board meeting for the South region is scheduled to take place on Sunday, February 12, 2006, from 9:30 a.m. to 12 p.m. (e.s.t.) in the Yorktown Room.

These meetings are held pursuant to section 1298 of the Energy Policy Act of 2005, Pub. L. 109-58, § 1298, 119 Stat. 594, 986 (2005). Section 1298 adds section 223 to the Federal Power Act, 16 U.S.C. 824 et seq. (2000), requiring the Commission to convene joint boards on a regional basis pursuant to FPA section 209 “to study the issue of security constrained economic dispatch for the various market regions,” “to consider issues relevant to what constitutes ‘security constrained economic dispatch' and how such a mode of operating . . . affects or enhances the reliability and affordability of service,” and “to make recommendations to the Commission.”

Take further notice that attached are: (1) An agenda for the meeting, (2) a draft study previously circulated to the board members, and (3) recommendations to be considered by the board.

Take further notice that the following changes have taken place to the South Joint Board membership: former Chairman Braulio Baez was replaced by Commissioner J. Terry Deason of the Florida Public Service Commission, and former Commissioner Michael Callahan was replaced by Dr. Christopher Garbacz, Director, Economics and Planning, Mississippi Public Service Commission. A complete and updated list of board members is available at http://www.ferc.gov.

For more information about the meeting, please contact Sarah McKinley at (202) 502-8004 or sarah.mckinley@ferc.gov.

Magalie R. Salas,
Secretary.

[FR Doc. E6-2265 Filed 2-16-06; 8:45 am]

BILLING CODE 6717-01-P